DEPARTMENT OF TRANSPORTATION

Coast Guard

33 CFR Part 165

[CGD09-02-515]

Safety Zone; Captain of the Port Milwaukee Zone

AGENCY: Coast Guard, DOT.

ACTION: Notice of implementation of regulation.

SUMMARY: The Coast Guard is implementing safety zones for annual fireworks displays in the Captain of the Port Milwaukee Zone during September 2002. This action is necessary to provide for the safety of life and property on navigable waters during these events. These zones will restrict vessel traffic from a portion of the Captain of the Port Milwaukee Zone.

DATES: The safety zone for the Indian Summer Fest—Milwaukee, WI (165.909(a)(9)) will be enforced on September 6, 2002, from 9:50 p.m. until 10:25 p.m., but in the event of inclement weather the safety zone will be enforced from 9:20 p.m. until 9:55 p.m. on September 8, 2002. The safety zone for the Milwaukee River Challenge Boat Races (165.909(a)(28)) will be enforced on September 21, 2002, from 12 p.m. until 6 p.m.

FOR FURTHER INFORMATION CONTACT: Marine Science Technician Chief Dave McClintock, U.S. Coast Guard Marine Safety Office Milwaukee, at (414) 747-7155

SUPPLEMENTARY INFORMATION: The Coast Guard is implementing the permanent safety zone in 33 CFR 165.909(a)(9) (67 FR 44560, July 3, 2002), as well as the permanent safety zone in 33 CFR 165.909(a)(28) (67 FR 44560, July 3, 2002) for fireworks displays in the Captain of the Port Milwaukee Zone during September 2002. The following safety zones are in effect for fireworks displays occurring in the month of September 2002:

Indian Summer Fest Fireworks—Milwaukee, WI. This safety zone will be enforced on September 6, 2002, from 9:50 p.m. until 10:25 p.m. In the event of inclement weather on September 6, 2002, the safety zone will be enforced from on September 8, 2002 from 9:20 p.m. until 9:55 p.m.

Milwaukee River Challenge Boat Races—Milwaukee, WI. This safety zone will be enforced on September 21, 2002, from 12 p.m. until 6 p.m.

In order to ensure the safety of spectators and transiting vessels, this safety zone will be in effect for the duration of the event. Vessels may not enter the safety zone without permission from Captain of the Port Milwaukee Zone. Requests to transit the safety zone must be made in advance by contacting the person listed in FOR FURTHER INFORMATION CONTACT and must be approved by the Captain of the Port Milwaukee before transits will be authorized. Spectator vessels may anchor outside the safety zone but are cautioned not to block a navigable channel.

Dated: August 20, 2002.
M.R. DeVries,
Commander, U.S. Coast Guard, Captain of the Port Milwaukee.

[FR Doc. 02-21982 Filed 8-27-02; 8:45 am]

BILLING CODE 4910-15-P